DEPARTMENT OF AGRICULTURE

Farm Service Agency

U.S. Warehouse Act Fees

AGENCY: Farm Service Agency, USDA.

ACTION: Notice.

SUMMARY: This notice publishes a schedule increasing the annual operational fee warehouse operators are charged under the United States Warehouse Act (USWA). This action is needed to increase the amount of revenue generated to recover operational costs projected for operations under the USWA in fiscal year 2001. This notice does not change any of the other various license or inspection fees charged under the USWA.

EFFECTIVE DATE: October 1, 2000.

FOR FURTHER INFORMATION CONTACT: Steve Mikkelsen, Deputy Director, Warehouse and Inventory Division, Farm Service Agency, United States Department of Agriculture, 1400 Independence Avenue, SW, STOP 0553, Washington, DC 20250-0553, telephone (202) 720-2121 FAX: (202) 690-3123, E-Mail: Steve_Mikkelsen@wdc.fsa. usda.gov.

SUPPLEMENTARY INFORMATION:

Background

The Secretary has the authority to license public warehouses and assess warehouse operators fees under the United States Warehouse Act (USWA) (7 U.S.C. 241 et seq.). Warehouse operators licensed under the USWA understand that fees will be imposed to cover the costs of the program. Specifically, section 10 of the USWA (7 U.S.C 249) mandates the imposition of fees for USWA licensed warehouses. The USWA provides for licensing warehouses, for examining licensed warehouses, and for the collection of fees to sustain the USWA warehouse licensing and examination programs. In keeping with that responsibility the Department of Agriculture's Farm Service Agency (FSA) is raising USWA annual operational fees charged to licensed warehouses in order to assure the recovery of operational costs projected for USWA activities in fiscal year 2001. The fiscal year 2001 fee adjustment reflects a 2.0 percent increase in the annual fees. No increase is being made in other license or inspection fees charged under the USWA.

USWA fees vary by the type of storage warehouse and were last amended effective October 1, 1999, (64 FR 34765, June 29, 1999). None of last year's increases for any particular type of warehouse exceeded 2.0 percent and varied based on FSA's direct costs with respect to warehouse examinations for that type of warehouse. The regulations issued under the USWA, codified at 7 CFR parts 735 through 743, provide that fees charged warehouse operators under the USWA could be adjusted annually. The schedule below sets out all of the relevant fees and charges for licensing and examination and reflects the increased annual fees noted above. USWA Schedule for License, Inspection and Annual Operational Fees to be Paid by Warehouse Operators:

Warehouse and Service License Fees

The fee for original issuance, reissuance, or duplication of a license for cotton, grain, tobacco, wool, dry beans, nut, syrup, and cottonseed is $80 for each license issued.

The fee charged to license individuals to inspect, sample, grade, classify, or weigh commodities is $35 for each service license issued.

Warehouse Annual and Inspection Fees

These fees are shown in the following tables by agricultural product. Inspection fees are assessed for each original examination or inspection, or reexamination or reinspection for modification of an existing license. Annual fees are assessed independently of inspection fees and of the license fees set forth in the preceding paragraph.

Cotton
[In bales]
Licensed capacity | Annual fee for each warehouse location with a CCC storage agreement | Annual fee for each warehouse location without a CCC storage agreement
1-20,000 | $560 | $1,115
20,001-40,000 | 730 | 1,460
40,001-60,000 | 895 | 1,790
60,001-80,000 | 1,125 | 2,245
80,001-100,000 | 1,400 | 2,800
100,001-120,000 | 1,680 | 3,355
120,001-140,000 | 1,955 | 3,915
140,001-160,000 | 2,240 | 4,475
160,001+ | * 2,240 | ** 4,475
* Plus $60 per 5,000 bale capacity above 160,000 bales or fraction thereof.
** Plus $110 per 5,000 bale capacity above 160,000 bales or fraction thereof.
Inspection fees will be charged at the rate of $80 for each 1,000 bales of licensed capacity, or fraction thereof, but in no case less than $160 nor more than $1,600.

Grain
[In bushels]
Licensed capacity | Annual fee for each warehouse location with a CCC storage agreement | Annual fee for each warehouse location without a CCC storage agreement
1-150,000 | $145 | $290
150,001-250,000 | 295 | 585
250,001-500,000 | 435 | 865
500,001-750,000 | 590 | 1,175
750,001-1,000,000 | 730 | 1,460
1,000,001-1,200,000 | 875 | 1,750
1,200,001-l,500,000 | 1,020 | 2,035
1,500,001-2,000,000 | 1,165 | 2,325
2,000,001-2,500,000 | 1,310 | 2,620
2,500,001-5,000,000 | 1,450 | 2,900
5,000,001-7,500,000 | 1,605 | 3,205
7,500,001-10,000,000 | 1,750 | 3,500
10,000,001+ | * 1,750 | ** 3,500
* Plus $50 per million bushels above 10,000,000 or fraction thereof.
** Plus $90 per million bushels above 10,000,000 or fraction thereof.
Inspection fees will be charged at the rate of $16 for each 10,000 bushels of licensed capacity, or fraction thereof, but in no case less than $160 nor more than $1,600.

Dry Beans
[In hundredweight]
Licensed capacity | Annual fee
100-90,000 | $800
90,001-150,000 | 1,115
150,001-300,000 | 1,445
300,001-450,000 | 1,765
450,001-600,000 | 2,080
600,001-720,000 | 2,395
720,001-900,000 | 2,725
900,001-1,200,000 | 3,045
1,200,001-1,500,000 | 3,355
1,500,001-3,000,000 | 3,675
3,000,001+ | 4,000

Inspection fees will be charged at the rate of $16 for each 1,000 hundredweight of licensed capacity, or fraction thereof, but in no case less than $160 nor more than $1,600.

Tobacco and Wool

Annual fee: $16 for each 100,000 pounds of licensed capacity, or fraction thereof, but in no case less than $645.

Inspection fee: $16 for each 100,000 pounds of licensed capacity, or fraction thereof, but in no case less than $160 nor more than $1,600.

Nuts

Annual fee: $14 for each 100 short tons of licensed capacity, or fraction thereof, but in no case less than $645.

Inspection fee: $8 for each 100 short tons of licensed capacity, or fraction thereof, of peanuts and $14 for each 1,000 hundredweight, or fraction thereof, of other nuts, but in no case less than $160 nor more than $1,600.

Syrup

Annual fee: $6 for each 5,000 gallons of licensed capacity, or fraction thereof, but in no case less than $645.

Inspection fee: $6 for each 5,000 gallons of licensed capacity, or fraction thereof, but in no case less than $160 nor more than $1,600.

Cottonseed

Annual fee: $16 for each 1,000 short tons of licensed capacity, or fraction thereof, but in no case less than $645.

Inspection fee: $16 for each 1,000 short tons of licensed capacity, or fraction thereof, but in no case less than $160 nor more than $1,600.

Signed at Washington, D.C., on June 19, 2000.
George Arredondo,
Administrator, Farm Service Agency.

[FR Doc. 00-16060 Filed 6-23-00; 8:45 am]

BILLING CODE 3410-05-P